DEPARTMENT OF LABOR

Employment and Training Administration

[TA-W-63,721C]

Hutchinson Fts, Inc.; Byrdstown, TN; Notice of Termination of Investigation

Pursuant to Section 221 of the Trade Act of 1974, as amended, an investigation was initiated on July 21, 2008 in response to a petition filed by a company official on behalf of workers of Hutchinson FTS, Inc., Byrdstown, Tennessee.

The petitioning group of workers is covered by an active certification (TA-W-60,013) which expires on September 26, 2008. Consequently, further investigation in this case would serve no purpose, and the investigation has been terminated.

Signed at Washington, DC, this 2nd day of September 2008.
Richard Church,
Certifying Officer, Division of Trade Adjustment Assistance.

[FR Doc. E8-21323 Filed 9-11-08; 8:45 am]

BILLING CODE 4510-FN-P